DEPARTMENT OF COMMERCE

National Oceanic and Atmospheric Administration

[RTID 0648-XE653]

Determination of Overfishing or an Overfished Condition

AGENCY: National Marine Fisheries Service (NMFS), National Oceanic and Atmospheric Administration (NOAA), Commerce.

ACTION: Notice.

SUMMARY: This action serves as a notice that NMFS, on behalf of the Secretary of Commerce (Secretary), has found that witch flounder and Saint Matthew Island blue king crab continue to be overfished; Gulf of America lane snapper, Southern Atlantic snowy grouper and Southern Atlantic gag continue to be subject to overfishing; and Southern Atlantic blueline tilefish is now subject to overfishing. NMFS, on behalf of the Secretary, is required to provide this notice whenever it determines that a stock or stock complex is subject to overfishing, overfished, or approaching an overfished condition.

FOR FURTHER INFORMATION CONTACT: Regina Spallone, (301) 427-8568.

SUPPLEMENTARY INFORMATION: Pursuant to section 304(e)(2) of the Magnuson-Stevens Fishery Conservation and Management Act, 16 U.S.C. 1854(e)(2), NMFS, on behalf of the Secretary, must notify councils, and publish a notice in the Federal Register, whenever it determines that a stock or stock complex is subject to overfishing, overfished, or approaching an overfished condition. To comply with Executive Order (E.O.) 14172, this notice uses the term “Gulf of America” for all references to the area referred to as the “Gulf of Mexico” in the regulations at 50 CFR part 622.

NMFS has determined that Northwestern Atlantic witch flounder continues to be overfished. This determination is based on the most recent assessment completed in 2024 and using data through 2023 that continued to support the determination that the stock remains overfished. NMFS continues to work with the New England Fishery Management Council to rebuild this stock.

NMFS has determined that the Saint Matthew Island blue king crab continues to be overfished. This determination is based on the most recent assessment, completed in 2024 using data through 2024 that found that the mature male biomass is less than the minimum stock size threshold. NMFS continues to work with the North Pacific Fishery Management Council to rebuild this stock.

NMFS has determined that Gulf of America lane snapper continues to be subject to overfishing. This determination is based on landings data from 2023 that found the landings were greater than the overfishing limit (OFL). NMFS continues to work with the Gulf of Mexico ¹ Fishery Management Council to end overfishing on this stock.

¹ As established in section 302(a)(1)(E) of the Magnuson-Stevens Fishery Conservation and Management Act (16 U.S.C. 1852(a)(1)(E)).

NMFS has determined that both Southern Atlantic snowy grouper and Southern Atlantic gag continue to be subject to overfishing. These determinations are based on landings data from 2023 that found the landings were greater than the OFL for both stocks. NMFS continues to work with the South Atlantic Fishery Management Council to end overfishing on these stocks.

NMFS has determined that Southern Atlantic blueline tilefish is now subject to overfishing. This determination is based on landings data from 2023 that found the landings were greater than the OFL. NMFS has notified the South Atlantic Fishery Management Council of its requirement to end overfishing.

Dated: April 18, 2025.
Karen H. Abrams,
Acting Director, Office of Sustainable Fisheries, National Marine Fisheries Service.

[FR Doc. 2025-07049 Filed 4-23-25; 8:45 am]

BILLING CODE 3510-22-P